NUCLEAR REGULATORY COMMISSION

[NRC-2011-0095]

Biweekly Notice; Applications and Amendments to Facility Operating Licenses Involving No Significant Hazards Considerations

I. Background

Pursuant to Section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license upon a determination by the Commission that such amendment involves no significant hazards consideration, notwithstanding the pendency before the Commission of a request for a hearing from any person.

This biweekly notice includes all notices of amendments issued, or proposed to be issued from April 7, 2011, to April 20, 2011. The last biweekly notice was published on April 19, 2011 (76 FR 21917 to 21928).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR) 50.92, this means that operation of the facility in accordance with the proposed amendment would not (1) Involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Room O1-F21, 11555 Rockville Pike (first floor), Rockville, Maryland 20852.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR part 2. Interested person(s) should consult a current copy of 10 CFR 2.309, which is available at the Commission's PDR, located at One White Flint North, Room O1-F21, 11555 Rockville Pike (first floor), Rockville, Maryland 20852. Publicly available records will be accessible from the Agencywide Documents Access and Management System's (ADAMS) Public NRC Library on the Internet at the NRC Web site, http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd1.nrc.gov/EHD/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the Commission's PDR, located at One White Flint North, Room O1-F21, 11555 Rockville Pike (first floor), Rockville, Maryland 20852. Publicly available records will be accessible from the ADAMS Public NRC Library on the Internet at the NRC Web site, http://www.nrc.gov/reading-rm/adams.html. Persons who do not have access to ADAMS or who encounter problems in accessing the documents located in ADAMS, should contact the NRC PDR Reference staff at 1-800-397-4209, 301-415-4737, or by e-mail to pdr.resource@nrc.gov.

Entergy Operations, Inc., System Energy Resources, Inc., South Mississippi Electric Power Association, and Entergy Mississippi, Inc., Docket No. 50-416, Grand Gulf Nuclear Station, Unit 1, Claiborne County, Mississippi

Date of amendment request: April 6, 2011.

Description of amendment request: The proposed amendment would revise the Technical Specification (TSs) to define a new time limit for restoring inoperable reactor coolant system (RCS) leakage detection instrumentation to operable status; establish alternate methods of monitoring RCS leakage when one or more required monitors are inoperable; and make TS Bases changes which reflect the proposed changes and more accurately reflect the contents of the facility design basis related to operability of the RCS leakage detection instrumentation. These changes are consistent with NRC-approved Revision 3 to TSTF Standard Technical Specification Change Traveler TSTF-514, “Revise BWR Operability Requirements and Actions for RCS Leakage Instrumentation,” as part of the consolidated line item improvement process. In addition, the proposed amendment would make a minor editorial change to correct a formatting issue to be consistent with the Technical Specifications Task Force TSTF-GG-05-01, “Writer's Guide for Plant Specific Improved Technical Specifications,” and the BWR6 TS format.

Basis for proposed no significant hazards consideration determination: As required by 10 CFR 50.91(a), the licensee has provided its analysis of the issue of no significant hazards consideration, which is presented below:

1. Does the proposed change involve a significant increase in the probability or consequences of an accident previously evaluated?

Response: No.

The proposed change clarifies the operability requirements for the RCS leakage detection instrumentation and reduces the time allowed for the plant to operate when the only TS-required operable RCS leakage detection instrumentation monitor is the drywell atmospheric gaseous radiation monitor. The monitoring of RCS leakage is not a precursor to any accident previously evaluated. The monitoring of RCS leakage is not used to mitigate the consequences of any accident previously evaluated.

Therefore, it is concluded that this change does not involve a significant increase in the probability of consequences of an accident previously evaluated.

2. Does the proposed change create the possibility of a new or different kind of accident from any accident previously evaluated?

Response: No.

The proposed change clarifies the operability requirements for the RCS leakage detection instrumentation and reduces the time allowed for the plant to operate when the only TS-required operable RCS leakage detection instrumentation monitor is the drywell atmospheric gaseous radiation monitor. The proposed change does not involve a physical alteration of the plant (no new or different type of equipment will be installed) or a change in the methods governing normal plant operation.

Therefore, it is concluded that the proposed change does not create the possibility of a new or different kind of accident from any previously evaluated.

3. Does the proposed change involve a significant reduction in a margin of safety?

Response: No.

The proposed change clarifies the operability requirements for the RCS leakage detection instrumentation and reduces the time allowed for the plant to operate when the only TS-required operable RCS leakage detection instrumentation monitor is the drywell atmospheric gaseous radiation monitor. Reducing the amount of time the plant is allowed to operate with only the drywell atmospheric gaseous radiation monitor operable increase the margin of safety by increasing the likelihood that an increase in RCS leakage will be detected before it potentially results in gross failure.

Therefore, it is concluded that the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Terence A. Burke, Associate General Counsel—Nuclear Entergy Services, Inc., 1340 Echelon Parkway, Jackson, Mississippi 39213.

NRC Branch Chief: Michael T. Markley.

Exelon Generation Company, LLC, Docket No. 50-289, Three Mile Island Nuclear Station, Unit 1, Dauphin County, Pennsylvania

Date of amendment request: September 22, 2010, as supplemented by letter dated April 7, 2011.

Description of amendment request: This notice is being reissued in its entirety due to a modified submittal received from Exelon Generation Company, LLC. The original notice was published in the Federal Register on November 30, 2010 (75 FR 74095). The proposed amendment would relocate the list of pumps, fans, and valves in Technical Specification (TS) 4.5.1.1b, Sequence and Power Transfer Test, to the Three Mile Island, Unit 1 (TMI-1) Updated Final Safety Analysis Report. In place of the TS equipment listing there will be a more general reference to the permanently-connected and automatically-connected emergency loads which are tested through the load sequencer. In addition, TS 4.5.1.2b, TS 4.5.2.2a, and TS 4.5.2.2b refer to this test and are proposed for revision to reflect the proposed change to TS 4.5.1.1b.

Basis for proposed no significant hazards consideration determination: As required by 10 CFR 50.91(a), the licensee has provided its analysis of the issue of no significant hazards consideration, which is presented below:

1. Does the proposed amendment involve a significant increase in the probability or consequences of an accident previously evaluated?

Response: No.

The proposed license amendment does not add, delete or modify plant equipment. The proposed changes are administrative in nature. The proposed amendment would relocate the list of pumps, fans and valves in Technical Specification (TS) 4.5.1.lb, Sequence and Power Transfer Test, to the TMI-1 Updated Final Safety Analysis Report (UFSAR) Section 8.2, Table 8.2-11, Engineered Safeguards Loading Sequence. In addition, TS 4.5.1.1b and TS 4.5.1.2b are being modified to include a high level description of equipment required to be included in the Sequence and Power Transfer Test, and the Sequence Test, respectively.

The proposed changes relocate surveillance requirement details that are not required by 10 CFR 50.36. The proposed changes do not change current surveillance requirements. The subject list of pumps, fans and valves that will be relocated to UFSAR Section 8.2, Table 8.2-11, will be controlled under 10 CFR 50.59.

The probability of an accident is not increased by these proposed changes because neither the Sequence and Power Transfer Test nor the Sequence Test are initiators of any design basis event. Additionally, the proposed changes do not involve any physical changes to plant structures, systems, or components (SSCs), or the manner in which these SSCs are operated, maintained, or controlled. The consequences of an accident will not be increased because the proposed administrative changes to the Sequence and Power Transfer Test, and the Sequence Test, will continue to provide a high degree of assurance that the Electric Power System will meet its safety related function.

Therefore, the proposed changes do not involve a significant increase in the probability or consequences of an accident previously evaluated.

2. Does the proposed amendment create the possibility of a new or different kind of accident from any previously evaluated?

Response: No.

The proposed changes do not alter the physical design, safety limits, safety analyses assumptions, or the manner in which the plant is operated or tested. The proposed changes are administrative in nature and the surveillance requirements remain the same. Accordingly, the proposed changes do not introduce any new accident initiators, nor do they reduce or adversely affect the capabilities of any plant SSC in the performance of their safety function.

Therefore, the proposed changes do not create the possibility of a new or different kind of accident from any accident previously evaluated.

3. Does the proposed amendment involve a significant reduction in a margin of safety?

Response: No.

The margin of safety is associated with the confidence in the ability of the fission product barriers (i.e., fuel cladding, reactor coolant pressure boundary, and containment structure) to limit the level of radiation to the public. There are no physical changes to SSCs or operating and testing procedures associated with the proposed amendment.

The proposed changes do not impact the assumptions of any design basis accident, and do not alter assumptions relative to the mitigation of an accident or transient event. The proposed changes are administrative in nature and the surveillance requirements remain the same.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: J. Bradley Fewell, Esquire, Associate General Counsel, Exelon Generation Company, LLC, 4300 Winfield Road, Warrenville, IL 60555.

NRC Branch Chief: Harold K. Chernoff.

PSEG Nuclear LLC, Docket No. 50-354, Hope Creek Generating Station, Salem County, New Jersey

Date of amendment request: February 28, 2011.

Description of amendment request: The proposed amendment would modify the Hope Creek Generating Station (HCGS) Technical Specifications (TSs) to revise the existing TS for the Control Room Emergency Filtration (CREF) system and to add a new TS for the Control Room Air Conditioning (AC) system. The proposed amendment is based, in part, on Nuclear Regulatory Commission (NRC)-approved Technical Specification Task Force (TSTF) Standard TS (STS) Change Traveler TSTF-477, Revision 3, “Adding an Action Statement for Two Inoperable Control Room Air Conditioning Subsystems.” Plant-specific deviations from TSTF-477 are proposed to accommodate differences between the HCGS TSs and the STSs originally used to develop TSTF-477.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes add a separate Technical Specification (TS) for the Control Room Air Conditioning (AC) system, and renumbers and revises the existing TS for the Control Room Emergency Filtration (CREF) system. Consistent with Technical Specification Task Force (TSTF) Standard TS Change Traveler TSTF-477, the proposed change also adds an action statement for two inoperable Control Room AC subsystems.

The proposed change does not involve a physical alteration of the plant (no new or different type of equipment will be installed). The proposed changes add a separate TS for the Control Room AC system and an action statement for two inoperable control room subsystems. The equipment qualification temperature of the control room equipment is not affected. Future changes to the Bases or licensee-controlled document[s] will be evaluated pursuant to the requirements of 10 CFR 50.59, “Changes, test and experiments,” to ensure that such changes do not result in more than a minimal increase in the probability or consequences of an accident previously evaluated.

The proposed changes do not adversely affect accident initiators or precursors nor alter the design assumptions, conditions, and configuration of the facility or the manner in which the plant is operated and maintained. The proposed changes do not adversely affect the ability of structures, systems and components (SSCs) to perform their intended safety function to mitigate the consequences of an initiating event within the assumed acceptance limits. The proposed changes do not affect the source term, containment isolation, or radiological consequences of any accident previously evaluated. Further, the proposed changes do not increase the types and the amounts of radioactive effluent that may be released, nor significantly increase individual or cumulative occupation/public radiation exposures.

Therefore, the proposed change does not involve a significant increase in the probability or consequences of an accident previously evaluated.

2. Does the proposed amendment create the possibility of a new or different kind of accident from any accident previously evaluated?

Response: No.

The proposed changes add a separate TS for the Control Room AC system and an action statement for two inoperable control room subsystems. The changes do not involve a physical altering of the plant (i.e., no new or different type of equipment will be installed) or a change in methods governing normal plant control room temperature within the design limits.

Therefore, the proposed change does not create the possibility of a new or different kind of accident from any previously evaluated.

3. Does the proposed amendment involve a significant reduction in a margin of safety?

Response: No.

The proposed changes add a separate TS for the Control Room AC system and an action statement for two inoperable control room subsystems. Instituting the proposed changes will continue to maintain the control room temperature within design limits. Changes to the Bases or license[e-]controlled document[s] are performed in accordance with 10 CFR 50.59. This approach provides an effective level of regulatory control and ensures that the control room temperature will be maintained within design limits.

The proposed changes maintain sufficient controls to preserve the current margins of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jeffrie J. Keenan, PSEG Nuclear LLC—N21, P.O. Box 236, Hancocks Bridge, NJ 08038.

NRC Branch Chief: Harold K. Chernoff.

Tennessee Valley Authority, Docket Nos. 50-260 and 50-296, Browns Ferry Nuclear Plant (BFN), Units 2 and 3, Limestone County, Alabama

Date of amendment request: February 25, 2011.

Description of amendment request: The proposed amendments would delete Technical Specification (TS) Surveillance Requirement 3.5.1.12, which requires the verification of the capability to automatically transfer the power supply from the normal source to the alternate source for each Low Pressure Coolant Injection (LPCI) subsystem inboard injection valve and each recirculation pump discharge valve on a 24-month frequency.

Basis for proposed no significant hazards consideration determination: As required by 10 CFR 50.91(a), the licensee has provided its analysis of the issue of no significant hazards consideration, which is presented below:

1. Does the proposed Technical Specification change involve a significant increase in the probability or consequences of an accident previously evaluated?

Response: No.

The 480V RMOV Boards D or E, the equipment they power, or the automatic power transfer feature provided for these boards are not precursors to any accident previous evaluated in the Updated Final Safety Analysis Report (UFSAR). Therefore, the probability of an evaluated accident is not increased by modifying this equipment. The proposed deletion of the requirement to maintain the automatic transfer capability for the power supply to the LPCI inboard injection valves, RHR [residual heat removal] minimum flow valves and recirculation pump discharge valves does not change the number of Emergency Core Cooling System (ECCS) subsystems credited in the BFN licensing basis. The proposed change does not affect the operational characteristics or function of systems, structures, or components (SSCs), the interfaces between credited SSCs and other plant systems, or the reliability of SSCs. The proposed change does not impact the capability of credited SSCs to perform their required safety functions.

Therefore, the proposed TS changes will not significantly increase the consequences of an accident previously evaluated.

2. Does the proposed Technical Specification change create the possibility of a new or different kind of accident from any accident previously evaluated?

Response: No.

The proposed deletion of the requirement to maintain an automatic transfer capability for the power supply to the LPCI inboard injection valves, RHR minimum flow valves and recirculation pump discharge valves does not introduce new equipment, which could create a new or different kind of accident.

The proposed change does not alter the manner in which equipment operation is initiated, nor will the functional demands on credited equipment be changed. The capability of credited SSCs to perform their required function will not be affected by the proposed change. In addition, the proposed change does not affect the interaction of plant SSCs with other plant SSCs whose failure or malfunction can initiate an accident or transient. As such, no new failure modes are being introduced. No new external threats, release pathways, or equipment failure modes are created. Therefore, the proposed deletion of the requirement to maintain an automatic transfer capability for the power supply to the LPCI inboard injection valves, RHR minimum flow valves and recirculation pump discharge valves will not create a possibility for an accident of a new or different type than those previously evaluated.

3. Does the proposed Technical Specification change involve a significant reduction in a margin of safety?

Response: No.

The proposed deletion of the requirement to maintain an automatic transfer capability for the power supply to the LPCI inboard injection valves, RHR minimum flow valves and recirculation pump discharge valves does not change the conditions, operating configurations, or minimum amount of operating equipment credited in the safety analyses for accident or transient mitigation. The proposed change does not alter the assumptions contained in the safety analyses. The proposed change does not alter the manner in which safety limits, limiting safety system settings or limiting conditions for operation are determined. The proposed change does not impact the safety analysis credited redundancy or availability of SSCs required for accident or transient mitigation, or the ability of the plant to cope with design basis events as assumed in safety analyses. In addition, no changes are proposed in the manner in which the credited SSCs provide plant protection or which create new modes of plant operation. The requirements of 10 CFR 50.46 and Appendix K continue to be met. Therefore, the proposed change does not involve a significant reduction in the margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, 6A West Tower, Knoxville, Tennessee 37902.

NRC Branch Chief: Douglas A. Broaddus.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the Commission's Public Document Room (PDR), located at One White Flint North, Room O1-F21, 11555 Rockville Pike (first floor), Rockville, Maryland. Publicly available records will be accessible from the Agencywide Documents Access and Management System (ADAMS) Public NRC Library on the internet at the NRC Web site, http://www.nrc.gov/reading-rm/adams.html. If you do not have access to ADAMS or if there are problems in accessing the documents located in ADAMS, contact the PDR Reference staff at 1-800-397-4209, 301-415-4737 or by email to pdr.resource@nrc.gov.

Carolina Power and Light Company, Docket Nos. 50-325 and 50-324, Brunswick Steam Electric Plant, Units 1 and 2, Brunswick County, North Carolina

Date of application for amendments: April 29, 2010, as supplemented by letters dated June 9, July 22, July 29, September 29, October 12, November 9, November 18, and December 16, 2010; March 16, and April 6, 2011.

Brief description of amendments: The proposed license amendments revised the Brunswick Steam Electric Plant (BSEP), Units 1 and 2, Technical Specification 5.6.5.b by adding AREVA topical report, BAW-10247PA, “Realistic Thermal-Mechanical Fuel Rod Methodology for Boiling Water Reactors,” Revision 0, April 2008, to the list of analytical methods that have been reviewed and approved by the NRC for determining core operating limits. The proposed amendments changed the BSEP Technical Specifications to support transition to ATRIUM 10XM fuel and associated core design methodologies.

Date of issuance: April 8, 2011.

Effective date: Date of issuance, to be implemented prior to startup from the 2011 refueling outage (RFO) for Unit 2, and prior to startup from the 2012 RFO for Unit 1.

Amendment Nos.: Unit 1—256 and Unit 2—284.

Renewed Facility Operating License Nos. DPR-71 and DPR-62: Amendments revised the Technical Specifications.

Date of initial notice in Federal Register: August 10, 2010 (75 FR 48373). The supplemental letters dated June 9, July 29, September 29, October 12, November 9, November 18, and December 16, 2010; March 16 and April 6, 2011, provided additional information that clarified the application, did not expand the scope of the application as originally noticed, and did not change the staff's original proposed no significant hazards consideration determination as published in the Federal Register.

The Commission's related evaluation of the amendments is contained in a Safety Evaluation dated April 8, 2011.

No significant hazards consideration comments received: No.

Carolina Power and Light Company, Docket Nos. 50-325 and 50-324, Brunswick Steam Electric Plant, Units 1 and 2, Brunswick County, North Carolina

Date of application for amendments: April 29, 2010, as supplemented by letters dated June 9, July 22, July 29, September 29, October 12, November 9, November 18, and December 16, 2010, and April 6, 2011.

Brief description of amendments: The proposed license amendments revised the Brunswick Steam Electric Plant (BSEP), Units 1 and 2, Technical Specification (TS) 5.6.5.b by adding the AREVA, topical report, ANP-10298PA, “ACE/ATRIUM 10XM Critical Power Correlation,” Revision 0, March 2010, to the list of analytical methods that have been reviewed and approved by the NRC for determining core operating limits. The proposed amendments changed the BSEP Units 1 and 2 TSs to support transition to ATRIUM 10XM fuel and associated core design methodologies.

Date of issuance: April 8, 2011.

Effective date: Upon date of issuance and implemented prior to startup from the 2011 refueling outage (RFO) for Unit 2 and prior to start-up from the 2012 RFO for Unit 1.

Amendment Nos.: Unit 1—257 and Unit 2—285.

Renewed Facility Operating License Nos. DPR-71 and DPR-62: Amendments revised the TSs.

Date of initial notice in Federal Register: August 10, 2010 (75 FR 48372). The supplemental letters dated June 9, July 29, September 29, October 12, November 9, November 18, and December 16, 2010, and April 6, 2011, provided additional information that clarified the application, did not expand the scope of the application as originally noticed, and did not change the staff's original proposed no significant hazards consideration determination as published in the Federal Register.

The Commission's related evaluation of the amendments is contained in a Safety Evaluation dated April 8, 2011.

No significant hazards consideration comments received: No.

Entergy Operations, Inc., Docket No. 50-368, Arkansas Nuclear One, Unit 2, Pope County, Arkansas

Date of application for amendment: June 17, 2010, as supplemented by letters dated January 17, 20, and 31 and March 7, 2011.

Brief description of amendment: The amendment revised Technical Specification 6.5.16, “Containment Leakage Rate Testing Program,” to allow for the extension of the 10-year frequency of the Arkansas Nuclear One, Unit 2 Type A or Integrated Leak Rate Test to 15 years on a permanent basis.

Date of issuance: April 7, 2011.

Effective date: As of the date of issuance and shall be implemented within 30 days from the date of issuance.

Amendment No.: 292.

Renewed Facility Operating License No. NPF-6: Amendment revised the Technical Specifications/license.

Date of initial notice in Federal Register: July 27, 2010 (75 FR 44024). The supplemental letters dated January 17, 20, and 31 and March 7, 2011, provided additional information that clarified the application, did not expand the scope of the application as originally noticed, and did not change the staff's original proposed no significant hazards consideration determination as published in the Federal Register.

The Commission's related evaluation of the amendment is contained in a Safety Evaluation dated April 7, 2011.

No significant hazards consideration comments received: No.

Exelon Generation Company, LLC, Docket Nos. STN 50-456 and STN 50-457, Braidwood Station, Units 1 and 2, Will County, Illinois; Docket Nos. STN 50-454 and STN 50-455, Byron Station, Unit Nos. 1 and 2, Ogle County, Illinois

Date of application for amendment: December 14, 2010.

Brief description of amendment: The amendments revised Technical Specification (TS) 5.5.9, “Steam Generator (SG) Program,” to exclude portions of the tubes within the tubesheet from periodic steam generator (SG) inspections and plugging or repair. In addition, these amendments revise TS 5.6.9, “Steam Generator (SG) Tube Inspection Report,” to remove reference to previous interim alternate repair criteria and provide reporting requirements specific to the temporary alternate criteria.

Date of issuance: April 13, 2011.

Effective date: As of the date of issuance and shall be implemented within 30 days for Braidwood Station, Units 1 and 2, for Byron Station, Unit Nos. 1 and 2 prior to conducting the SG inspections required by TS 5.5.9 for the Byron Station, Unit No. 2, fall 2011 refueling outage (B2R16).

Amendment Nos.: 166 and 172.

Facility Operating License Nos. NPF-72, NPF-77, NPF-37, and NPF-66: The amendments revised the Technical Specifications and License.

Date of initial notice in Federal Register: February 1, 2011 (76 FR 5617).

The Commission's related evaluation of the amendments is contained in a Safety Evaluation dated April 13, 2011.

No significant hazards consideration comments received: No.

Exelon Generation Company, LLC, Docket Nos. 50-373 and 50-374, LaSalle County Station, Units 1 and 2, LaSalle County, Illinois

Date of application for amendments: April 19, 2010, as supplemented by letters dated October 15, 2010, and March 14, 2011.

Brief description of amendments: The amendment request proposed changes to the technical specifications (TSs) to revise TS 3.4.11, “RCS [reactor coolant system] Pressure and Temperature (P/T) [or P-T] Limits,” to incorporate revised P-T curves that are valid for up to 32 effective full power years (EFPYs) of operation.

Date of issuance: April 15, 2011.

Effective date: As of the date of issuance and shall be implemented within 60 days.

Amendment Nos.: 201/188.

Facility Operating License Nos. NPF-11 and NPF-18: The amendments revised the Technical Specifications and License.

Date of initial notice in Federal Register: June 29, 2010 (75 FR 37475).

The October 15, 2010, and March 14, 2011, supplements contained clarifying information and did not change the NRC staff's initial proposed finding of no significant hazards consideration.

The Commission's related evaluation of the amendments is contained in a Safety Evaluation dated April 15, 2011.

No significant hazards consideration comments received: No.

Exelon Generation Company, LLC, Docket Nos. 50-352 and 50-353, Limerick Generating Station (LGS), Units 1 and 2, Montgomery County, Pennsylvania

Date of application for amendment: March 25, 2010, as supplemented by letters dated April 26, 2010, June 29, 2010, July 22, 2010, July 28, 2010 (2), August 10, 2010, August 12, 2010 (2), August 30, 2010, December 17, 2010, and January 7, 2011.

Brief description of amendment: The changes implemented an increase of approximately 1.65 percent in rated thermal power from the current licensed thermal power of 3458 megawatts thermal (MWt) to 3515 MWt. The changes are based on increased feedwater flow measurement accuracy, which will be achieved by utilizing Cameron International (formerly Caldon) CheckPIus Leading Edge Flow Meter ultrasonic flow measurement instrumentation. The changes also modified certain technical specification setpoints and channel surveillance requirements associated with average power range monitor simulated thermal power. Additionally, the proposed changes include a modification to the Standby Liquid Control System, that allows operators to select two pumps instead of three for the automatic start function on an Anticipated Transient Without Scram signal.

Date of issuance: April 8, 2011.

Effective date: For LGS Unit 1, as of the date of issuance and shall be implemented within 90 days of issuance. For LGS Unit 2, as of the date of issuance and shall be implemented within 90 days of the completion of refueling outage Li2R11.

Amendment Nos.: 201 and 163.

Facility Operating License Nos. NPF-39 and NPF-85. These amendments revised the license and the technical specifications.

Date of initial notice in Federal Register: June 8, 2010 (75 FR 32512). The supplements dated April 26, 2010, June 29, 2010, July 22, 2010, July 28, 2010 (2), August 10, 2010, August 12, 2010 (2), August 30, 2010, December 17, 2010, and January 7, 2011, provided additional information that clarified the application, did not expand the scope of the application as originally noticed and did not change the NRC staff's original proposed no significant hazards determination.

The Commission's related evaluation of the amendments is contained in a Safety Evaluation dated April 8, 2011.

No significant hazards consideration comments received: No.

FirstEnergy Nuclear Operating Company, et al., Docket No. 50-440, Perry Nuclear Power Plant, Unit 1, Lake County, Ohio

Date of application for amendment: October 21, 2010, as supplemented by letters dated February 2, 2011, and March 17, 2011.

Brief description of amendment: This license amendment modified Technical Specification 2.1.1, “Reactor Core SLs,” by incorporating revised safety limit minimum critical power ratio values resulting from a plant-specific analysis performed for PNPP Cycle 14 core.

Date of issuance: April 18, 2011.

Effective date: As of the date of issuance and shall be implemented within 60 days.

Amendment No.: 155.

Facility Operating License No. NPF-58: This amendment revised the Technical Specifications and License.

Date of initial notice in Federal Register: January 11, 2011 (76 FR 1649).

The February 2, 2011 and March 17, 2011 supplements contained clarifying information and did not change the NRC staff's initial proposed finding of significant hazards consideration published in the Federal Register (76 FR 1649, January 11, 2011).

The Commission's related evaluation of the amendment is contained in a Safety Evaluation dated April 18, 2011.

No significant hazards consideration comments received: No.

NextEra Energy, Point Beach, LLC, Docket Nos. 50-266 and 50-301, Point Beach Nuclear Plant, Units 1 and 2, Town of Two Creeks, Manitowoc County, Wisconsin

Date of application for amendments: December 8, 2008, as supplemented by letters dated January 16, January 27, February 20, April 17 (two letters), May 8, May 15, June 1, July 24, August 20, September 4 (two letters), September 10, October 2, November 20, November 25, and December 17 of 2009; January 14, February 4 (two letters), March 5, April 20, July 8, July 29, August 12, September 3, October 12, and November 16 of 2010; January 27 and February 10 of 2011.

Brief description of amendments: The amendments modified the requirements of TS 3.4.16, “RCS [reactor coolant system] Specific Activity,” and TS 3.7.13, “Secondary Specific Activity,” as related to the use of an alternate source term (AST) associated with accident offsite and control room dose consequences. Implementation of the AST supports adoption of the control room envelope habitability controls in accordance with NRC-approved TS Task Force (TSTF) Standard Technical Specification change traveler TSTF-448, Revision 3, “Control Room Habitability.” To support this change, the amendment modified the following: 1) TS 1.1, “Definitions”; 2) TS 3.7.9, “Control Room Emergency Filtration System (CREFS),” Limiting Condition for Operation 3.7.9, including Surveillance Requirements 3.7.9.2, 3.7.9.3, and 3.7.9.6; 3) TS 5.5.15, “Containment Leakage Rate Testing Program”; 4) the addition of TS 5.5.18, “Control Room Envelope Habitability.” Finally, TS 5.6.4, “Core Operating Limits Report (COLR),” will incorporate the addition of the NRC-approved analytical methodology as described in WCAP-16259-P-A, “Westinghouse Methodology for Application of 3-D Transient Neutronics to Non-LOCA Analyses.”

Date of issuance: April 14, 2011.

Effective date: As of the date of issuance and shall be implemented within 180 days.

Amendment Nos.: 240, 244.

Renewed Facility Operating License Nos. DPR-24 and DPR-27: Amendments revised the License, Appendix C, and the Technical Specifications.

Date of initial notice in Federal Register: October 12, 2010 (75 FR 62602).

The supplemental letters contained clarifying information and did not change the staff's initial proposed finding of no significant hazards consideration.

The Commission's related evaluation of the amendments is contained in a Safety Evaluation dated April 14, 2011.

No significant hazards consideration comments received: No.

Virginia Electric and Power Company, Docket No. 52-008, North Anna Early Site Permit (ESP) Site, Louisa County, Virginia

Date of amendment request: September 2, 2010.

Description of amendment request: The amendment revised the North Anna Early Site Permit by deleting condition 3.G, which prescribes the notification and certification requirements associated with beginning the site preparation and preliminary construction activities approved by ESP-003.

Date of issuance: April 13, 2011.

Effective date: As of the date of issuance and shall be implemented within 60 days from the date of issuance.

Amendment No.: Two.

Early Site Permit No. ESP-003: Amendment revised the North Anna site ESP.

Public comments requested as to proposed no significant hazards consideration (NSHC): Yes.

Date of initial notice in the Federal Register (FR): November 30, 2010 (75 FR 74105). The November 30, 2010 FR notice provided an opportunity to submit comments on the Commission's proposed NSHC determination. No comments have been received.

The Commission's related evaluation of the requested approval of the amendment, and state consultation, are contained in a safety evaluation dated April 13, 2011. The NRC staff determined that the amendment satisfied the categorical exclusion criterion of 10 CFR 51.22(c) and no environmental assessment was required.

Attorney for the licensee: Lillian M. Cuoco, Senior Counsel, Dominion Resources Services, Inc., 120 Tredegar Street, RS-2, Richmond, VA 23219.

NRC Branch Chief: Hossein Hamzehee.

Virginia Electric and Power Company, Docket Nos. 50-338 and 50-339, North Anna Power Station, Units 1 and 2, Louisa County, Virginia

Date of application for amendment: May 6, 2010.

Brief description of amendment: These amendments revised TS 4.2.1, “Fuel Assemblies,” to add Optimized ZIRLO™ as an acceptable fuel rod cladding material. In addition, the amendments revised TS 5.6.5.b to add the Westinghouse topical report for Optimized ZIRLO™ to the list of analytical methods used to determine the core operating limits.

Date of issuance: April 14, 2011.

Effective date: As of the date of issuance and shall be implemented within 60 days from the date of issuance.

Amendment Nos.: 263 and 244.

Renewed Facility Operating License Nos. NPF-4 and NPF-7: Amendments changed the licenses and the technical specifications.

Date of initial notice in Federal Register: August 27, 2010 (75 FR 52781).

The Commission's related evaluation of the amendments is contained in a Safety Evaluation dated April 14, 2011.

No significant hazards consideration comments received: No.

Wolf Creek Nuclear Operating Corporation, Docket No. 50-482, Wolf Creek Generating Station, Coffey County, Kansas

Date of amendment request: October 21, 2010.

Brief description of amendment: The amendment corrected a typographical error in Technical Specification (TS) 5.0, “ADMINISTRATIVE CONTROLS.” The current TSs, on page 5.0-31, has two paragraphs numbered as 5.7.2.d.3. The amendment renumbered the second paragraph as 5.7.2.d.4.

Date of issuance: April 19, 2011.

Effective date: As the date of issuance and shall be implemented within 90 days of the date of issuance.

Amendment No.: 196.

Renewed Facility Operating License No. NPF-42. The amendment revised the Operating License and Technical Specifications.

Date of initial notice in Federal Register: December 14, 2010 (75 FR 77917).

The Commission's related evaluation of the amendment is contained in a Safety Evaluation dated April 19, 2011.

No significant hazards consideration comments received: No.

Dated at Rockville, Maryland, this 21st day of April 2011.
For the Nuclear Regulatory Commission.
Robert A. Nelson,
Deputy Director, Division of Operating Reactor Licensing, Office of Nuclear Reactor Regulation.

[FR Doc. 2011-10405 Filed 5-2-11; 8:45 am]

BILLING CODE 7590-01-P